DEPARTMENT OF HEALTH AND HUMAN SERVICES

Food and Drug Administration

Advisory Committee; Renewals

AGENCY: Food and Drug Administration, HHS.

ACTION: Notice.

SUMMARY: The Food and Drug Administration (FDA) is announcing the renewals of certain FDA advisory committees by the Commissioner of Food and Drugs (the Commissioner). The Commissioner has determined that it is in the public interest to renew the charters of the committees listed below for an additional 2 years beyond charter expiration date. The new charters will be in effect until the dates of expiration listed below. This notice is issued under the Federal Advisory Committee Act of October 6, 1972 (Pubic Law 92-463 (5 U.S.C. app. 2)).

DATES: Authority for these committees will expire on the dates indicated below unless the Commissioner formally determines that renewal is in the public interest.

Name of committee | Date of expiration
Gastrointestinal Drugs Advisory Committee | March 3, 2002
Advisory Committee for Reproductive Health Drugs | March 23, 2002
Arthritis Advisory Committee | April 5, 2002
Veterinary Medicine Advisory Committee | April 24, 2002
Anesthetic and Life Support Drugs Advisory Committee | May 1, 2002
Blood Products Advisory Committee | May 13, 2002
Pulmonary-Allergy Drugs Advisory Committee | May 30, 2002
Drug Abuse Advisory Committee | May 31, 2002
Science Advisory Board to the National Center for Toxicological Research | June 2, 2002
Peripheral and Central Nervous System Drugs Advisory Committee | June 4, 2002
Psychopharmacologic Drugs Advisory Committee | June 4, 2002
Transmissible Spongiform Encephalopathies Advisory Committee | June 9, 2002
Science Board to the Food and Drug Administration | June 26, 2002
Allergenic Products Advisory Committee | July 9, 2002
Cardiovascular and Renal Drugs Advisory Committee | August 27, 2002
Endocrinologic and Metabolic Drugs Advisory Committee | August 27, 2002
Oncologic Drugs Advisory Committee | September 1, 2002

FOR FURTHER INFORMATION CONTACT: Donna M. Combs, Committee Management Office (HFA-306), Food and Drug Administration, 5600 Fishers Lane, Rockville MD 20857, 301-827-5496.

Dated: October 23, 2000.
Linda A. Suydam,
Senior Associate Commissioner.

[FR Doc. 00-27835 Filed 10-30-00; 8:45 am]

BILLING CODE 4160-01-F